DEPARTMENT OF COMMERCE

International Trade Administration

[A-570-831]

Fresh Garlic From the People's Republic of China; Notice of Rescission of Antidumping Duty New Shipper Review

AGENCY: Import Administration, International Trade Administration, Department of Commerce.

EFFECTIVE DATE: May 25, 2005.

SUMMARY: In response to a request from an interested party, the Department of Commerce (the Department) initiated a new shipper review of the antidumping duty order on fresh garlic from the People's Republic of China (PRC) with respect to Huaiyang Huamei Foodstuff Co., Ltd. (Huamei). However, Huamei has failed to respond to our new shipper questionnaire; consequently, we are rescinding the review of this company.

FOR FURTHER INFORMATION CONTACT: Coleen Schoch or Brian Ledgerwood at (202) 482-4551 and (202) 482-3836, respectively, AD/CVD Operations, Office 8, Import Administration, International Trade Administration, U.S. Department of Commerce, 14th Street and Constitution Avenue, NW, Washington, DC 20230.

SUPPLEMENTARY INFORMATION:

Scope of the Order

The products covered by this antidumping duty order are all grades of garlic, whole or separated into constituent cloves, whether or not peeled, fresh, chilled, frozen, provisionally preserved, or packed in water or other neutral substance, but not prepared or preserved by the addition of other ingredients or heat processing. The differences between grades are based on color, size, sheathing, and level of decay.

The scope of this order does not include the following: (a) garlic that has been mechanically harvested and that is primarily, but not exclusively, destined for non-fresh use; or (b) garlic that has been specially prepared and cultivated prior to planting and then harvested and otherwise prepared for use as seed.

The subject merchandise is used principally as a food product and for seasoning. The subject garlic is currently classifiable under subheadings 0703.20.0010, 0703.20.0020, 0703.20.0090, 0710.80.7060, 0710.80.9750, 0711.90.6000, and 2005.90.9700 of the Harmonized Tariff Schedule of the United States (HTSUS). Although the HTSUS subheadings are provided for convenience and customs purposes, the written description of the scope of this order is dispositive. In order to be excluded from the antidumping duty order, garlic entered under the HTSUS subheadings listed above that is (1) mechanically harvested and primarily, but not exclusively, destined for non-fresh use or (2) specially prepared and cultivated prior to planting and then harvested and otherwise prepared for use as seed must be accompanied by declarations to U.S. Customs and Border Protection (CBP) to that effect.

Background

The antidumping duty order on fresh garlic from the PRC was published on November 16, 1994. See Antidumping Duty Order: Fresh Garlic From the People's Republic of China, 59 FR 59209. On November 30, 2004, the Department received a request for a new shipper review from Huamei. We conducted an initial examination of its new shipper review request and initiated a new shipper review of the antidumping duty order on fresh garlic from the PRC for Huamei. See Notice of Initiation of New Shipper Reviews, 70 FR 779 (January 5, 2005). The period of review (POR) for the new shipper review is November 1, 2003, through October 31, 2004. As part of this new shipper review, the Department sent an antidumping duty questionnaire to Huamei on January 4, 2005. Pursuant to section 351.301(c)(2)(ii) of the Department's regulations, the questionnaire included (a) a deadline for the response; (b) a description of the form and manner in which Huamei must submit the information; and (c) a statement that failure to submit the requested information in the requested form and manner by the date specified could result in the application of facts available.

In a letter submitted to the Department on March 2, 2005, Huamei's counsel withdrew its representation of Huamei. Huamei's response to the Department's questionnaire was due on March 3, 2005. The Department received no response from Huamei and no other party has filed an entry of appearance on behalf of Huamei.

On March 15, 2005, the Department issued a letter to Huamei's last known address, including a copy of the antidumping duty questionnaire and request that Huamei respond by April 4, 2005. The Department warned that, should Huamei fail to provide the information requested by the due date, the Department could resort to the use of facts available with an adverse inference for purposes of this new shipper review, pursuant to sections 776(a) and 776(b) of the Tariff Act of 1930, as amended (the Act). Also on March 15, 2005, the Department issued a similar letter to the Director of the Bureau of Fair Trade for Imports and Exports at the PRC Ministry of Commerce.

To date, the Department has not received any response from Huamei. Furthermore, we have not received notice that Huamei would be unable to respond to our questionnaire within the specified time limits or that it would be unable to provide the information to the Department in the form required.

Rescission of New Shipper Review

Because Huamei failed to respond to our questionnaire after requesting a new shipper review, we are rescinding the new shipper review of the antidumping duty order on fresh garlic from the PRC with respect to this company.

Cash Deposits

Bonding is no longer permitted to fulfill the security requirements for shipments of subject merchandise produced or exported by Huamei and entered or withdrawn from warehouse for consumption in the United States on or after the date of publication of this notice. Further, effective upon publication of this notice for all shipments of subject merchandise produced or exported by Huamei, and entered or withdrawn from warehouse for consumption, the cash-deposit rate will be the PRC-wide rate of 376.67 percent.

Assessment of Antidumping Duties

The Department will instruct CBP to assess antidumping duties on all appropriate entries. Since we are rescinding this antidumping duty new shipper review, the PRC-wide rate of 376.67 percent that was in effect at the time of entry, applies to all exports of subject merchandise produced or exported by Huamei during the period of review. The Department will issue appropriate assessment instructions directly to CBP within 15 days of publication of this notice.

This notice is published in accordance with section 751 of the Act and 19 CFR 351.213(d)(4).

Dated: May 18, 2005.
Barbara E. Tillman,
Acting Deputy Assistant Secretary for Import Administration.

[FR Doc. E5-2653 Filed 5-24-05; 8:45 am]

BILLING CODE 3510-DS-S